DEPARTMENT OF VETERANS AFFAIRS

[OMB Control No. 2900-0620]

Agency Information Collection (Payment/Reimbursement for Emergency Services for Nonservice-Connected Conditions in Non-VA Facilities); Activities: Under OMB Review.

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before January 22, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0620 (Payment/Reimbursement for Emergency Services for Nonservice-Connected Conditions in Non-VA Facilities)” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0620 (Payment/Reimbursement for Emergency Services for Nonservice-Connected Conditions in Non-VA Facilities)” in any correspondence.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

The collection of this information is necessary to comply with the provisions of PL 101-366 (Department of Veterans Affairs (VA) Nurse Pay Act of 1990) as amended by 106-419 (Veterans Benefits and Health Care Improvement Act of 2000), which specifically provides for a locality pay system for certain health care personnel within VA. Rates of pay are established by VA medical facility Directors based on rates of compensation for corresponding positions in the local labor market. The law requires that where available, data from the Bureau of Labor Statistics or other third party industry surveys will be used in determining the beginning rates of compensation. However, VA medical facility Directors may conduct a salary survey in an attempt to collect comparable survey data in order to implement and adjust rates for registered nurses, nurse anesthetists, and other health care personnel when other data sources are not available.

Titles Payment/Reimbursement for Emergency Services for Nonservice-Connected Conditions in Non-VA Facilities.

OMB Control Number: 2900-0620.

Type of Review: Revision.

Abstract 38 U.S.C. Chapter 17 authorizes VA to provide hospital care, medical services, domiciliary care and nursing home care to eligible veterans. Public Law 106-117 “The Veterans Millennium Health Care and Benefits Act” amended 38 U.S.C. by adding § 1725 establishing reimbursement authority for an individual who is an active Department health-care participant who is personally liable for emergency treatment furnished in a non-Department facility provided that the veteran fit the limitations outlined in the statute.

Affected Public: Private Sector.

Estimated Annual Burden: 115,298 burden hours.

Estimated Average Burden per Respondent: 15 minutes.

Frequency of Response: Annually.

Estimated Number of Respondents: 461,188

Dated: December 17, 2014.
By direction of the Secretary.
Crystal Rennie,
VA Clearance Officer, Department of Veterans Affairs.

[FR Doc. 2014-29930 Filed 12-22-14; 8:45 am]

BILLING CODE 8320-01-P